SMALL BUSINESS ADMINISTRATION

[License No. 30002169]

Source Capital Credit Opportunities V, L.P.; Conflicts of Interest Exemption

Notice is hereby given that Source Capital Credit Opportunities V, L.P., 3060 Peachtree Road, Suite 1830, Atlanta, GA 30305, a Federal Licensee under the Small Business Investment Act of 1958, as amended (the “Act”), in connection with the financing of a small business concern, has sought an exemption under Section 312 of the Act and 13 CFR 107.730, Financings which Constitute Conflicts of Interest of the Code of Federal Regulations. Source Capital Credit Opportunities V, L.P. is seeking a prior written exemption from US Small Business Administration (“SBA”) for a proposed financing to Property Rate LLC, 1855 W Katella Avenue #100, Orange, CA 92867.

The financing is brought within the purview of 13 CFR 107.730(a) of the Regulations because Property Rate LLC is an Associate of Source Capital Credit Opportunities V, L.P. because Associate Source Capital Credit Opportunities IV, L.P. owns a greater than ten percent interest in Property Rate LLC, therefore this transaction is considered Financings which constitute conflicts of interest, requiring SBA's prior written exemption.

Notice is hereby given that any interested person may submit written comments on this transaction within fifteen days of the date of this publication to the Associate Administrator, Office of Investment and Innovation, U.S. Small Business Administration, 409 Third Street SW, Washington, DC 20416.

Paul Salgado,
Director, Investment Portfolio Management, Office of Investment and Innovation, U.S. Small Business Administration.

[FR Doc. 2025-07914 Filed 5-6-25; 8:45 am]

BILLING CODE P